DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Health Center Controlled Networks Progress Reports (OMB No. 0915-0315)—Revision

The Health Resources and Services Administration (HRSA) collects network outcome measures, conducts evaluation of those measures, and has an electronic reporting system for the following types of grantees: Health Information Technology Planning Grants, Electronic Health Record Implementation Health Center Controlled Networks, Health Information Technology Innovations for Health Center Controlled Networks, and High Impact Electronic Health Records Implementation for Health Center Controlled Networks and Large Multi Site Health Centers. In order to help carry out its mission, HRSA created a set of performance measures that grantees use to evaluate the effectiveness of their service programs and monitor their progress through the use of performance reporting data.

Grantees report to HRSA on their grants to accomplish the following goals: increase access to needed data and services; improve quality, efficiency and effectiveness of network services; and enhance ability to track and monitor patient outcomes. Grantees submit their Progress Reports in a mid-year report and an accumulative annual progress report each fiscal year of the grant. These grants are on three year project periods. For HRSA grantees, there is no increase in burden. The hours per response has not changed. The number of grantees increased from 40 to 109.

The annual estimate of burden is as follows:

Application | Number of respondents | Responses per respondent | Total responses | Hours per response | Total burden hours
Planning | 5 | 2 | 10 | 10 | 100
Electronic Health Records Implementation | 54 | 2 | 108 | 18 | 1,944
Innovations Category 1 | 0 | 2 | 0 | 0 | 0
Innovations Category 2 | 29 | 2 | 58 | 18 | 1,044
High Impact | 21 | 2 | 42 | 18 | 7,208
Total | 109 | - | 80 | - | 3,808

E-mail comments to paperwork@hrsa.gov or mail the HRSA Reports Clearance Officer, Room 10-33, Parklawn Building, 5600 Fishers Lane, Rockville, MD 20857. Written comments should be received within 60 days of this notice.

Dated: September 16, 2010.
Sahira Rafiullah,
Director, Division of Policy and Information Coordination.

[FR Doc. 2010-23894 Filed 9-23-10; 8:45 am]

BILLING CODE 4165-15-P